DEPARTMENT OF HEALTH AND HUMAN SERVICES

Centers for Disease Control and Prevention

Meeting of the Community Preventive Services Task Force (Task Force)

AGENCY: Centers for Disease Control and Prevention (CDC), Department of Health and Human Services (HHS).

ACTION: Notice of meeting.

SUMMARY: The Centers for Disease Control and Prevention (CDC) within the Department of Health and Human Services announces the next meeting of the Community Preventive Services Task Force (Task Force). The Task Force is an independent, nonpartisan, nonfederal, and unpaid panel. Its members represent a broad range of research, practice, and policy expertise in prevention, wellness, health promotion, and public health, and are appointed by the CDC Director. The Task Force was convened in 1996 by the Department of Health and Human Services (HHS) to identify population health interventions that are scientifically proven to save lives, increase lifespans, and improve quality of life. CDC is mandated to provide ongoing administrative, research, and technical support for the operations of the Task Force. During its meetings, the Task Force (a) considers the findings of systematic reviews that assess the effectiveness and economics of community preventive services, programs, and policies, and (b) issues recommendations. Task Force recommendations are not mandates for compliance or spending. Instead, they provide information about evidence-based options that decision makers and stakeholders can consider when determining what best meets the specific needs, preferences, available resources, and constraints of their jurisdictions and constituents. The Task Force's recommendations, along with the systematic reviews of the scientific evidence on which they are based, are compiled in the Guide to Community Preventive Services (The Community Guide).

DATES: The meeting will be held on Wednesday, February 24, 2016 from 11:00 a.m. to 4:30 p.m. EST. Participants must pre-register for the meeting by 5 p.m. Monday, February 22, 2016.

Meeting Accessibility: This Task Force meeting will be dedicated entirely to Task Force methods. The meeting will therefore be a one-day session held via webinar rather than the traditional in-person meeting. There will be a 100-participant limit for the Web meeting, provided on a first-come, first-served basis. All participants must register for the meeting by 5 p.m. EST on Monday, February 22, 2016. Participants will receive registration confirmation with meeting instructions within two business days.

FOR FURTHER INFORMATION CONTACT: To register, send an email with name and contact information to Onslow Smith, Center for Surveillance, Epidemiology and Laboratory Services; Centers for Disease Control and Prevention, 1600 Clifton Road NE., MS-E-69, Atlanta, GA 30329. Telephone: (404) 498-6778. Email: CPSTF@cdc.gov.

SUPPLEMENTARY INFORMATION:

Purpose: During the February 2016 meeting, the Community Preventive Services Task Force (Task Force) will discuss proposed methods for increasing throughput of Task Force findings (i.e., how to increase the number of Task Force findings that are produced in a given time period), while maintaining adequate quality of the underlying reviews; adequate usefulness for decision makers; and sufficient attention to priority topics.

Matters to be discussed: Community Guide methods and procedures.

Dated: February 4, 2016.
Sandra Cashman,
Executive Secretary, Centers for Disease Control and Prevention.

[FR Doc. 2016-02619 Filed 2-9-16; 8:45 am]

BILLING CODE 4163-18-P